DEPARTMENT OF VETERANS AFFAIRS

[OMB Control No. 2900-0586]

Agency Information Collection (Technical Industry Standards) Activities Under OMB Review

AGENCY: Office of Acquisition and Logistics, Department of Veterans Affairs.

ACTION: Notice.

SUMMARY: In compliance with the Paperwork Reduction Act (PRA) of 1995 (44 U.S.C. 3501-3521), this notice announces that the Office of Acquisition and Materiel Management, Department of Veterans Affairs, will submit the collection of information abstracted below to the Office of Management and Budget (OMB) for review and comment. The PRA submission describes the nature of the information collection and its expected cost and burden; it includes the actual data collection instrument.

DATES: Comments must be submitted on or before August 16, 2013.

ADDRESSES: Submit written comments on the collection of information through www.Regulations.gov; or to VA's OMB Desk Officer, OMB Human Resources and Housing Branch, New Executive Office Building, Room 10235, Washington, DC 20503 (202) 395-7316. Please refer to “OMB Control No. 2900-0586” in any correspondence.

For Further Information or a Copy of the Submission Contact: Crystal Rennie, Enterprise Records Service (005R1B), Department of Veterans Affairs, 810 Vermont Avenue NW., Washington, DC 20420, (202) 632-7492 or email: crystal.rennie@va.gov. Please refer to “OMB Control No. 2900-0586.”

SUPPLEMENTARY INFORMATION:

Title: Veterans Affairs Acquisition Regulation (VAAR) Provision 852.211-72 (formerly 852.211-75), Technical Industry Standards.

OMB Control Number: 2900-0586.

Type of Review: Revision of a currently approved collection.

Abstract: VAAR provision 852.211-72, Technical Industry Standards, requires items offered for sale to VA under the solicitation conform to certain technical industry standards, such as Underwriters Laboratory (UL) or the National Fire Protection Association. Contractor must furnish evidence to VA stating that the items meet the requirements. The evidence can be in a tag or seal affixed to the item, such as the UL tag on an electrical cord or a tag on a fire-rated door. Items that do not meet the standards or not previously tested must come with a certificate from an acceptable laboratory certifying that the items furnished were tested in accordance with, and conform to, the specified standards.

An agency may not conduct or sponsor, and a person is not required to respond to a collection of information unless it displays a currently valid OMB control number. The Federal Register Notice with a 60-day comment period soliciting comments on this collection of information was published on April 15, 2013, at page 22366.

Affected Public: Business or other for profit.

Estimated Annual Burden: 1,225 hours.

Estimated Average Burden per Respondent: 30 minutes.

Frequency of Response: On occasion.

Estimated Number of Respondents: 2,450.

Dated: July 11, 2013.
By direction of the Secretary.
Crystal Rennie,
VA Clearance Officer, U.S. Department of Veterans Affairs.

[FR Doc. 2013-17016 Filed 7-16-13; 8:45 am]

BILLING CODE P